DEPARTMENT OF ENERGY

Federal Energy Regulatory Commission

[Docket No. RP03-110-000]

Equitrans, L.P.; Notice of Proposed Changes in FERC Gas Tariff

November 29, 2002.

Take notice that on November 26, 2002, Equitrans, L.P. (Equitrans) tendered for filing as part of its FERC Gas Tariff, Original Volume No. 1, Seventh Revised Sheet No. 5, Tenth Revised Sheet No. 6, and Sixth Revised Sheet No. 10, proposed to be effective January 1, 2003.

Equitrans states that the tariff sheets described above reflect the revised funding surcharges for the Gas Research Institute (GRI) for the year 2003. These surcharges were approved by the Commission in its letter order issued September 19, 2002, in Docket No. RP02-354-000, in which it also approved GRI's funding for its year 2003 research, development, and demonstration (RD&D) program and its 2003-2007 five-year RD&D plan.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-30830 Filed 12-5-02; 8:45 am]

BILLING CODE 6717-01-P